DEPARTMENT OF THE INTERIOR

National Park Service

[NPS-WASO-NAGPRA-13657; PPWOCRADN0-PCU00RP14.R50000]

Notice of Inventory Completion: Rochester Museum & Science Center, Rochester, NY

AGENCY: National Park Service, Interior.

ACTION: Notice.

SUMMARY: The Rochester Museum & Science Center has completed an inventory of associated funerary objects, in consultation with the appropriate Indian tribes or Native Hawaiian organizations, and has determined that there is a cultural affiliation between the associated funerary objects and present-day Indian tribes or Native Hawaiian organizations. Lineal descendants or representatives of any Indian tribe or Native Hawaiian organization not identified in this notice that wish to request transfer of control of these associated funerary objects should submit a written request to the Rochester Museum & Science Center. If no additional requestors come forward, transfer of control of the associated funerary objects to the lineal descendants, Indian tribes, or Native Hawaiian organizations stated in this notice may proceed.

DATES: Lineal descendants or representatives of any Indian tribe or Native Hawaiian organization not identified in this notice that wish to request transfer of control of these associated funerary objects should submit a written request with information in support of the request to the Rochester Museum & Science Center at the address in this notice by September 16, 2013.

ADDRESSES: George McIntosh, Rochester Museum & Science Center, 657 East Ave., Rochester, NY 14607, telephone (585) 271-4552 x 306, email george_mcintosh@rmsc.org.

SUPPLEMENTARY INFORMATION: Notice is here given in accordance with the Native American Graves Protection and Repatriation Act (NAGPRA), 25 U.S.C. 3003, of the completion of an inventory of associated funerary objects under the control of the Rochester Museum & Science Center, Rochester, NY. The associated funerary objects were removed from a small island off Prince of Wales Island, AK.

This notice is published as part of the National Park Service's administrative responsibilities under NAGPRA, 25 U.S.C. 3003(d)(3). The determinations in this notice are the sole responsibility of the museum, institution, or Federal agency that has control of the Native American associated funerary objects. The National Park Service is not responsible for the determinations in this notice.

Consultation

A detailed assessment of the associated funerary objects was made by the Rochester Museum & Science Center professional staff in consultation with representatives of the Central Council of the Tlingit & Haida Indian Tribes and the Hydaburg Cooperative Association.

History and Description of the Objects

Sometime prior to 1924, five associated funerary objects were removed from an unnamed small island off Prince of Wales Island, AK, according to Rochester Museum & Science Center catalogue records. The associated funerary objects that at one time housed human remains were collected by Esther Gibson, who worked as a missionary nurse in Alaska for 33 years. On May 29, 1924, the Rochester Museum & Science Center (then Rochester Museum of Arts and Sciences) purchased the associated funerary objects from Gibson, who lived in Rochester, NY, at the time. No known individuals were identified. The five associated funerary objects are 1 wooden cremation box (24.57.3/AE 471), 1 sea lion hide (24.57.4/AE 472), 1 plaited cremation basket (24.57.5/AE 473), 1 rope (24.57.6/AE 474), and 1 plaited mat (24.57.7/AE 475).

The Rochester Museum & Science Center's collections records indicate that the associated funerary objects were found under a cliff on a small island off Prince of Wales Island, AK. The records state that the cremation box contained the ashes of a Tlingit shaman or chief wrapped in the sea lion hide, but the human remains are not present. The mat was wrapped around the outside of the box to protect it and secured with the rope. The documentation also states that the cremation basket, found beside the cremation box, contained the ashes of a slave, that are not present. A medallion adorning the top of the cremation box appears to commemorate George III of England, circa A.D. 1760-1800. Through consultation, it has been established that it was not uncommon for the Tlingit to acquire foreign objects through trade and use them to decorate cultural objects. Tlingit consultants also identified the paintings on the box as an old style Tlingit design probably dating to the late 1700s. This documentary, physical, and cultural evidence strongly suggests that the associated funerary objects are culturally affiliated with the Tlingit. This affiliation is also supported by historical evidence, which shows that the Prince of Wales Island was traditionally a Tlingit territory. It was not until the late 18th century that the Tlingit began to leave the area and the Kaigani Haida inhabited their abandoned villages.

Determinations Made by the Rochester Museum & Science Center

Officials of the Rochester Museum & Science Center have determined that:

• Pursuant to 25 U.S.C. 3001(3)(A), the five objects described in this notice are reasonably believed to have been placed with or near individual human remains at the time of death or later as part of the death rite or ceremony.

• Pursuant to 25 U.S.C. 3001(2), there is a relationship of shared group identity that can be reasonably traced between the Native American associated funerary objects and the Central Council of the Tlingit & Haida Indian Tribes.

Additional Requestors and Disposition

Lineal descendants or representatives of any Indian tribe or Native Hawaiian organization not identified in this notice that wish to request transfer of control of these associated funerary objects should submit a written request with information in support of the request to George McIntosh, Rochester Museum & Science Center, 657 East Ave., Rochester, NY 14607, telephone (585) 271-4552 x 306, email george_mcintosh@rmsc.org, by September 16, 2013. After that date, if no additional requestors have come forward, transfer of control of the associated funerary objects to the Central Council of the Tlingit & Haida Indian Tribes may proceed.

The Rochester Museum & Science Center is responsible for notifying the Central Council of the Tlingit & Haida Indian Tribes and the Hydaburg Cooperative Association that this notice has been published.

Dated: July 29, 2013.
Sherry Hutt,
Manager, National NAGPRA Program.

[FR Doc. 2013-20035 Filed 8-15-13; 8:45 am]

BILLING CODE 4312-50-P